DEPARTMENT OF JUSTICE

Antitrust Division

Notice Pursuant to the National Cooperative Research and Production Act of 1993—Electrified Vehicle and Energy Storage Evaluation

Notice is hereby given that, on September 24, 2020, pursuant to Section 6(a) of the National Cooperative Research and Production Act of 1993, 15 U.S.C. 4301 et seq. (“the Act”), Electrified Vehicle and Energy Storage Evaluation (“EVESE”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Allison Transmission, Inc.≪Client≫, Indianapolis, IN; BAE Systems Controls Inc., Endicott, NY; Castrol Limited, Pangbourne, England; Infineum USA L.P., Linden, NJ; Komatsu America Corp, Chicago, IL; Shell Global Systems (US) Inc., Wilmington, DE; and Underwriters Laboratories, Northbrook, IL.

The general area of EVESE's planned activities are to test and analyze cutting-edge technology for electrified vehicles (plug-in hybrids and battery electric vehicles) to understand the performance of the battery cells and pack, the electric motor and operating strategies that maximize fuel economy, efficiency and range. Additionally, EVESE will conduct research focused on improving the performance and durability of lithium-ion batteries, electric motors and the electrified vehicle's powertrain as a whole.

Suzanne Morris,
Chief, Premerger and Division Statistics, Antitrust Division.

[FR Doc. 2020-22856 Filed 10-14-20; 8:45 am]

BILLING CODE 4410-11-P